DEPARTMENT OF ENERGY

Federal Energy Regulatory Commission

[Docket No. CP20-50-000; Docket No. CP20-51-000]

Tennessee Gas Pipeline Company, L.L.C.; Southern Natural Gas Company, L.L.C.; Notice of Application

Take notice that on February 7, 2020, Tennessee Gas Pipeline Company, L.L.C. (Tennessee), 1001 Louisiana Street, Suite 1000, Houston, Texas 77002, filed in the above referenced docket an application pursuant to section 7(c) of the Natural Gas Act, requesting authorization to construct, install, modify, operate, and maintain the Evangeline Pass Expansion Project located in Louisiana. Specifically, Tennessee proposes to: (i) Construct, operate and maintain approximately 9.1 miles of 36-inch-loop pipeline, along Tennessee's existing 24-inch Toca 529D-100 Yscloskey Lateral located in St. Bernard Parish, Louisiana; (ii) construct, operate and maintain approximately 4.0 miles of 36-inch-loop pipeline, along Tennessee's existing 36-inch 500-2 Pipeline in Plaquemines Parish, Louisiana; and (iii) construct, operate and maintain a new 23,470 horsepower compressor station, CS 529, along Tennessee's existing 500 line system at mainline valve 529 in St. Bernard Parish, Louisiana. In addition, and in conjunction with the Project, Tennessee will replace certain facilities including a like-for-like replacement of two 10,410 hp units at its existing Compressor Station 527 located in Plaquemines Parish, Louisiana. Tennessee also seeks to acquire lease capacity from Southern Natural Gas Company, L.L.C. pursuant to a lease agreement between the parties. Tennessee estimates the cost of the project to be $261 million, all as more fully described in the application which is on file with the Commission and open to public inspection.

Take notice that on February 7, 2020, Southern Natural Gas Company, L.L.C. (SNG), 569 Brookwood Village, Suite 749, Birmingham, Alabama 35209, filed in the above referenced docket an application pursuant to section 7(b) and 7(c) of the Natural Gas Act, requesting authorization to construct, install, own, lease, operate, and maintain the SNG Evangeline Pass Expansion Project located in Mississippi and Louisiana. Specifically, SNG proposes to: (i) Install 22,220 hp of compression at a new compressor station in Clark County Mississippi; (ii) construct three new meter stations in Clark and Smith Counties, Mississippi and in St. Bernard Parish, Louisiana; and (iii) construct and/or modify certain system auxiliary and appurtenant facilities under Section 2.55(a) at existing compressor stations and along the pipeline corridor in Mississippi and Louisiana. SNG estimates the cost of the project to be $171 million. The SNG Evangeline Pass

Expansion Project will add 1,100 mmcf/d of southbound capacity to the existing SNG system, which SNG will lease to Tennessee Gas Pipeline Company, L.L.C., all as more fully described in the application which is on file with the Commission and open to public inspection.

These filings are available for review at the Commission in the Public Reference Room or may be viewed on the Commission's website web at http://www.ferc.gov using the “eLibrary” link. Enter the docket number excluding the last three digits in the docket number field to access the document. For assistance, contact FERC at FERCOnlineSupport@ferc.gov or call toll-free, (866) 208-3676 or TTY, (202) 502-8659.

Any questions regarding this application should be directed to Ben Carranza, Director, Regulatory, Tennessee Gas Pipeline Company, L.L.C., 1001 Louisiana Street, Suite 1000, Houston, Texas 77002, by telephone at (713) 420-5535 or by email at ben_carranza@kindermorgan.com, or Debbie Kalisek, Senior Regulatory Analyst II, Tennessee Gas Pipeline Company, L.L.C., 1001 Louisiana Street, Suite 1000, Houston, Texas 77002, by telephone at (713) 420-3292 or by email at debbie_kalisek@kindermorgan.com.

Any questions regarding this application should be directed to Tim Hardy, Manager, Rate & Regulatory Affairs, Southern Natural Gas Company, L.L.C., 569 Brookwood Village, Suite 749, Birmingham, Alabama 35209, by telephone at (205) 325-3668 or by email at tina_hardy@kindermorgan.com.

Pursuant to section 157.9 of the Commission's rules, 18 CFR 157.9, within 90 days of this Notice the Commission staff will either: Complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

There are two ways to become involved in the Commission's review of this project. First, any person wishing to obtain legal status by becoming a party to the proceedings for this project should, on or before the comment date stated below file with the Federal Energy Regulatory Commission, 888 First Street NE, Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 3 copies of filings made in the proceeding with the Commission and must provide a copy to the applicant and to every other party. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list and will be notified of any meetings associated with the Commission's environmental review process. Environmental commenters will not be required to serve copies of filed documents on all other parties. However, the non-party commenters will not receive copies of all documents filed by other parties or issued by the Commission and will not have the right to seek court review of the Commission's final order.

As of the February 27, 2018 date of the Commission's order in Docket No. CP16-4-001, the Commission will apply its revised practice concerning out-of-time motions to intervene in any new Natural Gas Act section 3 or section 7 proceeding.¹ Persons desiring to become a party to a certificate proceeding are to intervene in a timely manner. If seeking to intervene out-of-time, the movant is required to show good cause why the time limitation should be waived, and should provide justification by reference to factors set forth in Rule 214(d)(1) of the Commission's Rules and Regulations.²

¹ Tennessee Gas Pipeline Company, L.L.C., 162 FERC 61,167 at 50 (2018).

² 18 CFR 385.214(d)(1).

The Commission strongly encourages electronic filings of comments, protests and interventions in lieu of paper using the eFiling link at http://www.ferc.gov. Persons unable to file electronically should submit an original and 3 copies of the protest or intervention to the Federal Energy Regulatory Commission, 888 First Street NE, Washington, DC 20426.

Comment Date: 5:00 p.m. Eastern Time on March 13, 2020.

Dated: February 21, 2020.
Kimberly D. Bose,
Secretary.

[FR Doc. 2020-04023 Filed 2-26-20; 8:45 am]

BILLING CODE 6717-01-P